DEPARTMENT OF DEFENSE

Department of the Army

Draft Finding of No Significant Impact and Programmatic Environmental Assessment for the Implementation of the Net Zero Program at Army Installations

AGENCY: Department of the Army, DoD.

ACTION: Notice of availability.

SUMMARY: The Department of the Army announces the availability of the Draft Finding of No Significant Impact and the Final Programmatic Environmental Assessment (PEA) for Implementation of the Net Zero program at Army Installations. This PEA evaluates potential direct, indirect, and cumulative effects of the Net Zero Installation program at a programmatic (Army-wide) level; installation- or project-specific analysis will be performed and documented for proposed installation-level action.

The Net Zero program is comprised of changes in management practices and behavior as well as multiple possible projects and technologies to enhance resource efficiency with a broad focus on increased sustainability. It is based on the following concepts: (1) Producing at least as much energy on the installation from renewable sources as it uses annually; (2) Limiting the consumption of freshwater resources and returning water back to the same watershed so as not to deplete the groundwater and surface water resources of that region in quantity or quality; and (3) Reducing, reusing, and recovering waste streams, converting them to resource value with zero solid waste disposed in landfills. The Army does not consider Net Zero as a stand-alone program and intends to leverage existing resources and collaborate with the private sector to strive toward the Net Zero program's energy, water, and waste reduction goals.

The PEA assesses the potential environmental impacts from the range of energy, water, and waste projects that could be implemented in support of Net Zero. The Army evaluated three alternatives: (1) No action; (2) Implement Net Zero Army-wide; and (3) Strategically Implement Net Zero based on mission needs, consumption, and resource constraints (the preferred alternative). The Army identified no significant environmental effects associated with implementation of Net Zero that cannot be mitigated to a level of insignificance with site-specific best management practices or other mitigation measures.

Native Americans, federal, state, and local agencies, organizations, and the public are invited to submit written comments. The document can be accessed at: http://www.army.mil/asaiee.

DATES: Submit comments on or before September 12, 2012.

ADDRESSES: Written comments should be forwarded to: Office of the Deputy Assistant Secretary of the Army (Energy and Sustainability), OASA(IE&E), 110 Army Pentagon, Room 3D453, Washington, DC 20310-0110.

FOR FURTHER INFORMATION CONTACT: Please call (703) 697-5433.

Brenda S. Bowen,
Army Federal Register Liaison Officer.

[FR Doc. 2012-19727 Filed 8-10-12; 8:45 am]

BILLING CODE 3710-08-P